DEPARTMENT OF AGRICULTURE

Food and Nutrition Service

Agency Information Collection Activities: Proposed Collection; Comment Request—The Special Supplemental Nutrition Program for Women, Infants, and Children (WIC) Nutrition Education Study

AGENCY: Food and Nutrition Service (FNS), USDA.

ACTION: Notice.

SUMMARY: In accordance with the Paperwork Reduction Act of 1995, this notice invites the general public and other public agencies to comment on the proposed collection of data for the WIC Nutrition Education Study. This is a NEW information collection. The Special Supplemental Nutrition Program for Women, Infants, and Children (WIC) is administered at the Federal level by the Food and Nutrition Service (FNS) of the U.S. Department of Agriculture. Through Federal grants to States, WIC provides supplemental foods, health care referrals, and nutrition education to low-income pregnant, breastfeeding, and non-breastfeeding postpartum women and to infants and children who are found to be at nutritional risk. The Healthy Hunger-Free Kids Act of 2010 (Pub. L. 111-296, Sec. 305) mandates programs under its authorization, including WIC, to cooperate with USDA program research and evaluation activities. WIC's mission is to safeguard the health of low-income women, infants, and children up to age 5 who are at nutritional risk by providing nutritious foods to supplement diets, information on healthy eating, and referrals to health care.

Nutrition education is the program feature often viewed as pivotal to WIC's success in achieving its mission to safeguard the health of low-income women, infants, and children. By Federal directive, all participants have the opportunity to participate in nutrition education at least two times during a 6-month period of eligibility or quarterly for a 12-month period. State and local WIC agencies have significant flexibility to design nutrition education appropriate for the demographics of their participants within established goals. This flexibility has yielded a range of messages, delivery systems and approaches, qualifications and training for educators, and quality.

The WIC Nutrition Education Study will provide a nationally representative description of how nutrition education is currently being provided to WIC recipients across the country. It will also conduct a pilot study of the impact of nutrition education on WIC recipients' nutrition and physical activity behaviors. This study will provide FNS with a better understanding of nutrition education practices and methods used by WIC and of the effectiveness of current WIC nutrition education services. The study will document how nutrition education is being provided subsequent to several program changes, including the 2009 food package changes, the implementation of the initiative to Revitalize Quality Nutrition Services (RQNS), and the use of new technology, among a racially and ethnically diverse population. Understanding optimal educational topics and methods, how to maximize participant engagement, the best approaches for delivery and reinforcement of messages, and how to effectively prepare and support WIC nutrition educators is key to informing WIC nutrition education improvements.

DATES: Written comments must be submitted on or before March 18, 2014.

ADDRESSES: Written comments are invited on (a) whether the proposed data collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Written comments may be sent to: Rich Lucas, Acting Associate Administrator, Office of Policy Support, U.S. Department of Agriculture, Food and Nutrition Service, 3101 Park Center Drive, Room 1014, Alexandria, VA 22302. Comments may also be submitted via fax to the attention of Rich Lucas at 703-305-2576 or via email to Richard.Lucas@fns.usda.gov. Comments will also be accepted through the Federal eRulemaking Portal. Go to http://www.regulations.gov and follow the online instructions for submitting comments electronically.

All written comments will be open for public inspection at the office of the Food and Nutrition Service during regular business hours (8:30 a.m. to 5:00 p.m., Monday through Friday) at 3101 Park Center Drive, Room 1014, Alexandria, Virginia 22302.

All responses to this notice will be summarized and included in the request for Office of Management and Budget approval. All comments will also be a matter of public record.

FOR FURTHER INFORMATION CONTACT: Requests for additional information should be directed to Rich Lucas at 703-305-2017.

SUPPLEMENTARY INFORMATION: Title: The Special Supplemental Nutrition Program for Women, Infants, and Children (WIC) Nutrition Education Study.

OMB Number: 0584-NEW.

Expiration Date of Approval: Not yet determined.

Type of Request: New collection.

Abstract: The purpose of the WIC Nutrition Education Study is to (1) provide a nationally representative description of how nutrition education is currently being provided to recipients of the Special Supplemental Nutrition Program for Women, Infants, and Children (WIC) and (2) develop an evaluation plan for a national study to measure the impact of WIC nutrition education on the nutrition and physical activity behaviors of women and their children. This study will be conducted in two phases.

In Phase I, data will be collected from WIC local agencies and their local sites via a nationally representative survey and in-depth telephone interviews with a subset of the survey respondents. The objectives of Phase I include:

• Describe the policies, practices, staff qualifications, and other features affecting nutrition education across all sites within a local agency.

• Describe the logistics and features of nutrition education service delivery, staff characteristics, modes of education, and facilities and resources for delivering nutrition education at the site level.

• Describe the dosage and duration of various nutrition education processes.

• Assess the frequency of various nutrition education processes overall and by geographic distribution and local agency and site characteristics.

• Inform the selection of the sites for the Phase II pilot study.

The Phase II pilot study will include a process and impact evaluation with six geographically dispersed local WIC sites. The objectives of Phase II include:

• Process evaluation: Describe the context for and implementation of nutrition education in each of the six pilot sites.

• Impact evaluation: Measure the strength of association between exposure to WIC nutrition education and changes in participant health behaviors and other outcomes (e.g., readiness for change, self-efficacy, food acquisition and management, eating behaviors, breastfeeding habits, dietary intake, and physical and sedentary activity habits).

Data collection for the process evaluation will include semi-structured interviews with WIC site staff, observations of nutrition education delivery, an online survey of nutrition educators, review of Local Agency Nutrition Education Plans and administrative data, and focus groups with WIC participants. Data collection for the impact evaluation will include a survey of WIC participants at three time points (baseline, interim, final) over a 12-month period.

Combined, Phases I and II of this study will result in a comprehensive description of WIC nutrition education processes that will provide information on optimal educational topics and methods, how to maximize participant engagement, and the best approaches for delivery and reinforcement of nutrition education messages. FNS will use this information to inform WIC nutrition education improvements, thus improving the health of low-income women and children at nutritional risk. There are no costs to respondents other than their time.

Affected Public

Phase I

• State and local WIC agencies and sites (50 State agencies, 1,000 WIC local agencies and 2,000 WIC sites): State agency directors, local agency WIC directors/managers, local WIC site supervisors/nutritionists. We estimate 50 State agencies and 50 local agencies will need to be contacted and will provide information needed for drawing the sample for the Site Survey. We estimate that 80% or 800 of the local agencies and 80% or 1,600 of the WIC sites will participate in the survey and that 80 of the sites (from the 1,600 responding sites) will participate in the telephone interviews.

Phase II

• State and local WIC sites (6 WIC sites selected from sites responding to Phase I): Local WIC site supervisors, nutritionists/nutrition assistants, WIC State agency staff. For the six pilot WIC sites, all of the local WIC site supervisors will participate in the baseline, interim, and final interviews and all of the State agencies for these sites will provide the requested administrative data. We estimate that 30 of the WIC nutritionists/nutrition assistants at these sites will complete the Web-based survey of nutrition educators.

• Individual/household (1,100 WIC participants): Respondent groups include pregnant and postpartum women enrolled in the WIC program and mothers or caregivers of children aged 1 year to age 4 years who are enrolled in the WIC program at the six selected WIC sites. A subset of these respondents (96) will take part in focus group discussions.

Estimated Number of Respondents

As presented in Table 1, the total number of respondents is 4,206. For Phase I, FNS estimates that 50 State agency directors and 50 local agency staff will provide information needed to draw the sample, 800 local agency WIC directors/program managers will complete the Local Agency Survey (of these, we estimate 50 individuals may need to be contacted to provide information to draw the sample), and 1,600 local WIC site supervisors/nutritionists will complete the Site Survey. The surveys are web-based with a paper version available for respondents without Internet access. A subset of the local WIC site supervisors/nutritionists (80) will complete in-depth telephone interviews.

For Phase II, 6 respondents are local WIC site supervisors who will complete three in-person or telephone interviews (baseline, interim, and final) during the 12-month study period (some of these individuals may have also participated in the Phase I Site Survey). Additionally, 30 are WIC nutritionists/nutrition assistants who will complete a web-based survey (some of these individuals may have also participated in the Phase I Site Survey), and 24 are WIC State agency staff who will provide WIC administrative data.

A total of 1,100 respondents are WIC participants from the six selected WIC sites. Of the 1,100 WIC participants approached for screening, 900 will agree to be screened and will be eligible for the study. Of these, 800 will agree to enroll in the study and complete the baseline survey, 640 will complete the interim survey, and 600 will complete the final survey. A subset of WIC participants (96) will take part in focus group discussions.

Estimated Number of Responses per Respondent

For Phase I, there is one response per respondent. For Phase II, the WIC participants will complete three surveys and the local WIC site supervisors will complete three interviews (baseline, interim, and final) during the 12-month study period. Data will be collected from other respondent types only once.

Estimated Total Annual Responses

The total annualized estimated number of responses is 2,334. For Phase I this includes 17 responses from State agency directors, 351 responses for local agency WIC directors/program managers, and 668 responses for local WIC site supervisors/nutritionists. A subsample of 33 local WIC site supervisors/nutritionists will be contacted for the telephone interviews. For Phase II this includes 13 responses for WIC nutritionists/nutrition assistants, 6 responses for local WIC site supervisors, 4 responses from State Agency staff, and 1,242 responses for WIC participants. The Annualized burden (last column of Table 1) should be multiplied by 3 to get the burden over the life of the 3-year data collection period.

Estimated Time per Response

Phase I: State agency and local agency directors will take 30 minutes (0.5 hours) to respond to the request for information to draw the sample, local agency WIC directors/program managers will take 45 minutes (0.75 hours) to respond to the web-based Local Agency Survey, and local WIC site supervisors/nutritionists will take 45 minutes (0.75 hours) to respond to the web-based Site Survey. Local WIC site supervisors/nutritionists will take 30 minutes (0.5 hours) to respond to the in-depth telephone interviews.

Phase II: WIC nutritionists/nutrition assistants will take 20 minutes (0.334 hours) to respond to the web-based survey. Local WIC site supervisors will take 45 minutes (0.75 hours) to respond to the baseline interview, 15 minutes (0.25 hours) to respond to the interim interview, and 15 minutes (0.25 hours) to respond to the final interview. WIC State agency staff will take 1.5 hours to respond to the WIC administrative data request, which can be done once at the end of the 12-month study period. WIC participants will take 15 minutes (0.25 hours) to complete the in-person screening interview, 20 minutes (0.334 hours) to complete the baseline survey, 20 minutes (0.334 hours) to complete the interim survey, and 20 minutes (0.334 hours) to complete the final survey. Additionally, it will take 90 minutes (1.5 hours) for WIC participants who agree to take part in the focus group discussions.

Estimated Total Annual Burden on Respondents: FNS estimates the annualized burden is 1,022.43 hours.

Table 1—Estimated Annualized Burden Hours
Respondents by type of interview | Estimated number of respondents | Frequency of responses per respondent (annualized based on 3 years) | Estimated total annual responses | Estimated average burden hours per response | Estimated total annual hour burden¹
Phase I—National Survey and Interviews of Local WIC Staff
Request information for drawing sample from State agency directors
Completed | 50 | 0.334 | 16.70 | 0.5000 | 8.35
Attempted | 0 | 0.000 | 0.00 | 0.0000 | 0.00
Request information for drawing sample from local agency directors
Completed ² | 50 | 0.334 | 16.70 | 0.5000 | 8.35
Attempted | 0 | 0.000 | 0.00 | 0.0000 | 0.00
Web-based survey of local agency WIC directors/program managers
Completed | 800 | 0.334 | 267.20 | 0.7500 | 200.40
Attempted | 200 | 0.334 | 66.80 | 0.0835 | 5.58
Web-based survey of local WIC site supervisors/nutritionists
Completed | 1,600 | 0.334 | 534.40 | 0.7500 | 400.80
Attempted | 400 | 0.334 | 133.60 | 0.0835 | 11.16
Telephone interviews with local WIC site supervisors/nutritionists ³
Completed | 80 | 0.334 | 26.72 | 0.5000 | 13.36
Attempted | 20 | 0.334 | 6.68 | 0.0835 | 0.56
WIC Staff Total | 3,050 |  | 1068.80 |  | 648.55
Phase II—Pilot Evaluation Study (State/Local WIC Staff)
Web-based survey of WIC nutritionists/nutrition assistants
Completed ⁴ | 30 | 0.334 | 10.02 | 0.3340 | 3.35
Attempted | 8 | 0.334 | 2.67 | 0.0835 | 0.22
Baseline in-person interviews with local WIC site supervisors
Completed ⁴ | 6 | 0.334 | 2.00 | 0.7500 | 1.50
Attempted | 0 | 0.000 | 0.00 | 0.0000 | 0.00
Interim and final telephone interviews with local WIC site supervisors
Completed ⁴ | 6 | 0.667 | 4.00 | 0.2500 | 1.00
Attempted | 0 | 0.000 | 0.00 | 0.0000 | 0.00
Request WIC administrative data from State Agency staff |
Completed | 12 | 0.334 | 4.01 | 1.5000 | 6.01
Attempted | 0 | 0.000 | 0.00 | 0.0000 | 0.00
WIC Staff Total | 56 |  | 22.71 |  | 12.09
Phase II—Pilot Evaluation Study (WIC Participants)
In-person screening interview of WIC participants
Completed | 900 | 0.334 | 300.60 | 0.2500 | 75.15
Attempted | 200 | 0.334 | 66.80 | 0.0835 | 5.58
Baseline survey of WIC participants (in-person/mail)
Completed | 800 | 0.334 | 267.20 | 0.3340 | 89.24
Attempted | 100 | 0.334 | 33.40 | 0.0334 | 1.12
Interim survey of WIC participants (mail/phone)
Completed | 640 | 0.334 | 213.76 | 0.3340 | 71.40
Attempted | 160 | 0.334 | 53.44 | 0.0334 | 1.78
Final survey of WIC participants (mail/phone)
Completed | 600 | 0.334 | 200.40 | 0.3340 | 66.93
Attempted | 200 | 0.334 | 66.80 | 0.0334 | 2.23
Focus groups with WIC participants ⁵
Completed | 96 | 0.334 | 32.06 | 1.5000 | 48.10
Attempted | 24 | 0.334 | 8.02 | 0.0334 | 0.27
WIC Participant Total | 1,100 |  | 1242.48 |  | 361.80
Annualized Total | 4,206 | 0.5549 | 2333.99 | 0.4381 | 1022.43
¹ Annual hour burden will need to be multiplied by 3 for the total 3 year data collection period.
² Not included in the Total for Estimated Number of Respondents because these respondents are a subset of participants to the Local Agency Survey.
³ Not included in the Total for Estimated Number of Respondents because these respondents are a subset of participants to the Site Survey.
⁴ Some of these individuals may have also participated in the Phase I Site Survey.
⁵ Not included in the Total for Estimated Number of Respondents because these participants are a subset of respondents to the Participant Surveys.

Dated: January 9, 2014.
Audrey Rowe,
Administrator, Food and Nutrition Service.

[FR Doc. 2014-00827 Filed 1-16-14; 8:45 am]

BILLING CODE 3410-30-P